DEPARTMENT OF THE TREASURY

Customs Service

[T.D. 01-73]

Cancellation of Customs Broker Licenses

AGENCY: U.S. Customs Service, Department of the Treasury.

ACTION: Customs broker license cancellations.

SUMMARY: Pursuant to section 641 of the Tariff Act of 1930 as amended (19 U.S.C. 1641) and the Customs Regulations (19 CFR 111), the following Customs broker licenses are cancelled. Some of these entities may continue to provide broker services under another valid brokerage license. Because previous publication of some records cannot be readily verified, the records are now being published to ensure Customs compliance with administrative requirements.

Name | License | Port name
Ace Young, Inc | 09667 | Chicago
Aeromar USA, Inc | 06159 | Washington, DC
Albuquerque Brokerage Co., Inc | 04547 | Albuquerque
All Nations Forwarding Import Company, Inc | 06589 | Miami
Allround CHB, Inc | 11854 | New York
Apple Import Services Inc | 07255 | New York
Arthur J Fritz Company | 05455 | Miami
Arthur J Fritz Company | 07646 | St. Louis
Arthur J Fritz Company | 03160 | Honolulu
Arthur J Fritz Company | 06951 | Boston
Arthur J Fritz Company | 06960 | Detroit
Arthur J Fritz Company | 03763 | El Paso
Arthur J Fritz Company | 07006 | Atlanta
Arthur J Fritz Company | 06346 | Dallas/Fort Worth
Arthur J Fritz Company | 09204 | Philadelphia
Arthur J Fritz Company | 03492 | Portland, ME
Arthur J Fritz Company Of Hawaii, Inc | 03520 | Honolulu
Arthur J Fritz Company of Los Angeles | 03205 | Los Angeles
Arthur J Fritz Company, Inc | 03501 | New Orleans
Arthur J Fritz Company, Inc | 07362 | Charleston
Arthur J Fritz Company, Inc | 07203 | Cleveland
Associated Customhouse Brokers | 06041 | Buffalo
Autair Customhouse Broker, Inc | 15120 | Miami
Bar-Zel Expediters Inc | 04436 | New York
Barinco International Corporation | 07692 | San Francisco
BBC International | 05051 | San Francisco
Becnel, Gerard | 06333 | New Orleans
Becnel, Gerard A | 09064 | New Orleans
Cammarano, John | 06264 | New York
Cammarano, Angelo | 03648 | New York
Cargo Brokers International, Inc | 07217 | Miami
Cargo Clearance Services, Inc | 15103 | Miami
Celaya Guerin International (CGI) | 11938 | Philadelphia
Christie, Roy G.W | 05843 | Tampa
Clopp, Jerry Bruce | 12060 | San Francisco
Continental Forwarding Co., Inc | 13026 | Cleveland
Craig International, Inc | 13252 | Cleveland
DAO Forwarding & Customs Brokerage, Inc | 17406 | Baltimore
Davis, Leonard H | 06471 | New York
DeAngelus & Associates, Inc | 16916 | Washington, DC
Dieterle, Hellmut Michael | 08001 | San Francisco
Disodado D. Roque Int'l, Inc | 09597 | San Francisco
DL Bynum & Company, Inc | 12077 | Dallas/Fort Worth
Eagle Warehouse, Inc | 13198 | Miami
Emery Distribution Systems, Inc | 05790 | Washington, DC
Emery Distribution Systems, Inc | 04560 | New Orleans
Evans & Wood Company, Inc | 07922 | Dallas/Fort Worth
Expediters International of Washington, Inc | 07259 | New York
Expeditors International of Washington, Inc | 06946 | San Francisco
FB Vandergrift Company, Inc | 07645 | San Francisco
Fong, J.B | 06150 | San Francisco
Foreign Forwarding, Inc | 13311 | Milwaukee
Fritz Air Freight | 06658 | Dallas/Fort Worth
Gash, Robert William | 02215 | San Francisco
Global Transportation Systems, Inc | 14830 | Washington, DC
Golden Eagle Customs Brokers | 11891 | Miami
Greenlee, Paul L | 09903 | Philadelphia
HB Thomas & Company | 01049 | San Francisco
Helstern, Jay P | 04845 | San Francisco
HH Elder & Company | 03138 | San Francisco
Hipage Company, Inc | 04042 | Washington, DC
HS Dorf Company, Inc (CA) | 01861 | San Francisco
Ingham International, Inc | 09383 | San Francisco
Interamerica Brokera | 13991 | Laredo
Interamerican World Transport Corporation | 04445 | San Francisco
Intercontinental Transport Services, Inc | 03457 | Boston
Interdocs, Inc | 14236 | Great Falls
International Cargo Group, Inc | 14339 | Boston
International Customs Service, Inc | 06993 | San Francisco
International Expediters, Inc | 02603 | San Francisco
Jacky Maeder, Ltd | 10446 | San Francisco
John S James Company | 05615 | Tampa
John V Carr & Son, Inc | 01872 | Detroit
Jones, Clifford Terrell | 03534 | San Francisco
Karl Schroff Associates, Inc | 03506 | San Francisco
Kearney, Kevin | 09098 | San Francisco
Kinetsu Intermodal (USA), Inc | 09849 | Los Angeles
Kuehne & Nagle, Inc | 05573 | San Francisco
Kuehne & Nagle, Inc | 07206 | Cleveland
LE Coppersmith, Inc | 03411 | San Francisco
LeBlanc, Gregory W | 11384 | New Orleans
Lindsey, James O | 05273 | New York
Lisoni, Ferruccio | 02693 | New York
Lorme International Ltd | 04646 | New York
Lorme, Jr., Charles A | 04458 | New York
Mattoon & Company, Inc | 02053 | San Francisco
Medeiros, Gerald | 05709 | San Francisco
Miami Valley Worldwide, Inc | 11297 | Cleveland
Milne & Craighead Customs Brokers (USA) Inc | 07605 | San Francisco
Modern Intermodal Traffic Co | 03889 | San Francisco
Nippon Express USA, Inc | 07511 | San Francisco
Norman G Jensen, Inc | 02176 | Seattle
Oakes, Charles Norman | 03834 | Boston
Oceanic Forwarding Company | 03340 | San Francisco
Pacific Customhouse Brokerage, Inc | 05042 | San Francisco
PC Heck and Company, Inc | 10863 | Tampa
Pearson, Hartvig M | 04275 | San Francisco
Percival, Wendy Wojnar | 10730 | New York
Rank International Forwarding, Inc | 14074 | Miami
Regis F Kramer Associates | 04155 | San Francisco
Rol-Pac Services, Inc | 05465 | San Francisco
Rubio, Ricardo E | 05221 | New York
RW Smith & Company, Inc | 04001 | New Orleans
Saga & Associates, Inc | 11153 | Los Angeles
Schenker International, Inc | 08077 | Cleveland
Scheyer, Jules | 09178 | New York
SDV Logistics Inc | 15613 | Dallas/Fort Worth
Seamodal Transport Corporation | 05850 | Norfolk
Shields, Jr., William J | 04437 | New York
Soto, Jr., Jose Antonio | 08025 | Laredo
Stecher, Charlene M.T. Lam | 05586 | Honolulu
Sterling International Services, Inc | 12814 | Philadelphia
Three Way Customhouse Brokerage, Inc | 05949 | San Francisco
US Group Consolidator, Inc | 13489 | San Francisco
Wall Shipping Company, Inc | 14058 | Washington, DC
Western Overseas Corporation | 06188 | San Francisco
Wilson Group USA, Inc | 04565 | Baltimore
Wilson UTC, Inc | 07897 | San Francisco
Worldwide Logistics | 13870 | Baltimore
WR Zanes Company of Louisiana, Inc | 06382 | Dallas/Fort Worth
Yolanda Diaz, Inc | 07494 | Miami
Yoshioka, Shigeru | 03392 | San Francisco
Young, David A | 06853 | Detroit
Zawacki, Ronald | 05815 | San Francisco

Dated: September 28, 2001.
Bonni G. Tischler,
Assistant Commissioner, Office of Field Operations.

[FR Doc. 01-25136 Filed 10-5-01; 8:45 am]

BILLING CODE 4820-02-P